DEPARTMENT OF ENERGY

Federal Energy Regulatory Commission

Notice Announcing Combined Notice of Initial Market-Based Rate Authorization Filings

April 3, 2008.

Effective April 3, 2008, the Federal Energy Regulatory Commission (FERC or Commission) will issue a separate combined notice of filing separately capturing initial market-based rate authorization filings.

As of this date, the Secretary of the Commission is making the following changes to the filing procedures for initial market-based rate authorization filings:

1. Filers requesting initial market-based rate authorization and certain waivers and blanket approvals, particularly including blanket approval under 18 CFR Part 34 of all future issuances of securities and assumptions of liability by the applicants, must clearly state such request in the title or heading of the filing. For example:

Re: Name of Applicant(s), Docket No. ER08-__, (Title/Description) and request for blanket approval under 18 C.F.R. Part 34 of all future issuances of securities and assumptions of liability.

The notices issued under this method for ER dockets will be added to eLibrary and published in the Federal Register under the name “Combined Notice of Initial Market-Based Rate Filings.” These notices will list initial market-based rate authorization filings added to eLibrary since publication of the last notice. Each filing will be listed with its identifying details as follows:

Name of Applicant(s)—This item will show the applicant name as it appears on the filing.

Docket Number—This item will contain a hyperlink to the eLibrary docket sheet for the docket number.

Description—This item will contain a brief description of the filing and a hyperlink that will open an image version of the filed document in eLibrary.

Filing Date—This item will show the date on which the document was filed with the Commission.

Accession Number—This item will contain a hyperlink that will open the document “Info” area of eLibrary for the filed document.

Comment Date—This item will indicate the comment deadline for the filing.

By this initiative, the Commission seeks to expedite the process for noticing initial market-based rate authorizations that also request blanket approvals for future issuances of securities and assumptions of liabilities, thereby also simplifying the manner in which the Commission's staff prepares notices. Consolidating notices in this manner also reduces the cost of publishing the notices in the Federal Register.

Kimberly D. Bose,
Secretary.

[FR Doc. E8-7601 Filed 4-9-08; 8:45 am]

BILLING CODE 6717-01-P